DEPARTMENT OF HEALTH AND HUMAN SERVICES

National Institutes of Health

National Cancer Institute; Cancellation of Meeting

Notice is hereby given of the cancellation of the National Cancer Institute Special Emphasis Panel, May 1, 2017, 8:00 a.m. to May 2, 2017, 1:00 p.m., Hyatt Regency Bethesda, One Bethesda Metro Center, 7400 Wisconsin Avenue, Bethesda, MD 20814 which was published in the Federal Register on March 22, 2017, 82 FR 54.

This meeting is being amended to cancel the meeting on May 1-2, 2017.

Dated: April 20, 2017.
Melanie J. Pantoja,
Program Analyst, Office of Federal Advisory Committee Policy.

[FR Doc. 2017-08348 Filed 4-24-17; 8:45 am]

BILLING CODE 4140-01-P